FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 27, 2006.

A. Federal Reserve Bank of Atlanta (Andre Anderson, Vice President) 1000 Peachtree Street, N.E., Atlanta, Georgia 30303:

1. Pollard Family Group (Jennie Floyd Pollard; Robert W. Pollard, Jr.; Zachary; Duncan Pollard; Ann Elizabeth Pollard; Richard Daniel Blanton; Patricia Pollard Blanton; Thomas Vinson Blanton II; Jennie Briggs Blanton; Clayton Edward Blanton; Lee Blanton West; Levi Anderson Pollard, V; Levi Anderson Pollard, VI; Lucy Ann Pollard; Pollard Land Company; and RWP Sr. Enterprises, LLLP; Robert W. Pollard, Jr., general partner, all of Appling, Georgia; and Robert William Pollard, III, Evans, Georgia; Richard Daniel Blanton, Jr., Carrollton, Georgia; and Lynn Pollard Nickerson and Paul Rush Battle, both of Atlanta, Georgia, to retain voting shares of Southeastern Bank Financial Corporation, and thereby indirectly acquire voting shares of Georgia Bank & Trust Company of Augusta, both of Augusta, Georgia.

Board of Governors of the Federal Reserve System, February 7, 2006.
Robert deV. Frierson,
Deputy Secretary of the Board.

[FR Doc. E6-1898 Filed 2-9-06; 8:45 am]

BILLING CODE 6210-01-S